DEPARTMENT OF ENERGY

Federal Energy Regulatory Commission

[Docket No. RP02-147-001]

ANR Pipeline Company; Notice of Compliance Filing

June 3, 2002.

Take notice that on May 24, 2002, ANR Pipeline Company (ANR), tendered for filing as part of its FERC Gas Tariff, Second Revised Volume No. 1, Substitute Fourth Revised Sheet No. 150, proposed to be effective August 1, 2002.

ANR states that the above-referenced tariff sheet is being filed as a result of dispute resolution efforts regarding the tariff language in its proposed Limitation of Liability provision filed on January 18, 2002 in the above captioned docket.

Any person desiring to protest said filing should file a protest with the Federal Energy Regulatory Commission, 888 First Street, NE, Washington, DC 20426, in accordance with Section 385.211 of the Commission's Rules and Regulations. All such protests must be filed on or before June 10, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14425 Filed 6-7-02; 8:45 am]

BILLING CODE 6717-01-P